DEPARTMENT OF COMMERCE

Foreign-Trade Zones Board

[S-100-2013]

Foreign-Trade Zone 79—Tampa, Florida, Foreign-Trade Subzone 79C—Cutrale Citrus Juices USA, Inc., Application for Additional Subzone Sites

An application has been submitted to the Foreign-Trade Zones Board (the Board) by the City of Tampa, grantee of FTZ 79, requesting two additional sites for Subzone 79C located in Dade City and Leesburg, Florida. The application was submitted pursuant to the provisions of the Foreign-Trade Zones Act, as amended (19 U.S.C. 81a-81u), and the regulations of the Board (15 CFR part 400). It was formally docketed on June 24, 2013.

Subzone 79C was approved on June 17, 2013 (S-95-2013) with a site (515.57 acres) located at 602 McKean Street in Auburndale (Polk County) subject to a three-year ASF sunset provision to June 30, 2016.

The applicant is now requesting authority to include two additional sites: Proposed Site 2 (5.03 acres)—38000 Cargill Way, Dade City (Pasco County); and, Proposed Site 3 (35.31 acres)—11 Cloud Street, Leesburg (Lake County). The proposed subzone sites would be subject to the existing activation limit of FTZ 79 and to the existing sunset provision applicable to Site 1 of the subzone. No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is August 7, 2013. Rebuttal comments in response to material submitted during the foregoing period may be submitted during the subsequent 15-day period to August 22, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: June 24, 2013.
Elizabeth Whiteman,
Acting Executive Secretary.

[FR Doc. 2013-15548 Filed 6-27-13; 8:45 am]

BILLING CODE 3510-DS-P